DEPARTMENT OF HEALTH AND HUMAN SERVICES

Centers for Disease Control and Prevention

[30Day-08-0692]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Notice of Correction to Burden Table

Proposed Project

A Survey of the Knowledge, Attitudes and Practice of Medical and Allied Health Professionals Regarding Fetal Alcohol Exposure—Revision—National Center on Birth Defects and Developmental Disabilities (NCBDDD), Centers for Disease Control and Prevention (CDC).

Description of Correction

The previous 30-day Federal Registrar (FRN) published January 25, 2008, Volume 73, No. 17, Pages 4575-4576, was submitted with an error showing five previously approved forms. This notice is corrected to show only the requested number of burden hours to continue this project.

Background and Brief Description

Maternal prenatal alcohol use is one of the leading, preventable, causes of birth defects and developmental disabilities. Children exposed to alcohol during fetal development can suffer a wide array of disorders, from subtle changes in I.Q. and behaviors to profound mental retardation. These conditions are known as fetal alcohol spectrum disorders (FASDs). The most severe condition within the spectrum is fetal alcohol syndrome (FAS), which involves disorders of the brain, growth retardation, and facial malformations.

Physicians and other health practitioners play a vital role in diagnosing FAS and in screening women of child-bearing age for alcohol consumption and drinking during pregnancy. In Diekman's, et al. (2000) study of obstetricians and gynecologists, only one fifth of doctors surveyed reported abstinence to be the safest way to avoid the adverse outcomes associated with fetal alcohol exposure. Importantly, 13% of doctors surveyed were not sure of levels of alcohol consumption associated with adverse outcomes. One of CDC's multifaceted initiatives in combating alcohol-exposed pregnancies is the education and reeducation of medical and allied health students and practitioners.

In fiscal year 2002, the Centers for Disease Control and Prevention (CDC) received a congressional mandate to develop guidelines for the diagnosis of FAS and other conditions resulting from prenatal alcohol exposure; and to incorporate these guidelines into curricula for medical and allied health students and practitioners [Public Health Service Act Section 317K (247b-12) b and c].

In response to the second congressional mandate listed above, CDC proposed five national surveys of health providers. In August of 2005, OMB approved these five surveys under control number 0920-0692. The purposes of the surveys are to assess, among various health care provider groups, their knowledge, attitudes, and practices regarding the prevention, identification, and treatment of FASDs. These health care provider groups are pediatricians, obstetrician-gynecologists (OB-GYNs), psychiatrists, family physicians, and allied health professionals.

The results of the surveys will help to inform further development of model FASD curricula to disseminate among medical and allied health students and professionals nation wide using a variety of formats including computer interactive learning applications, workshops and conferences, Continuing Medical Education credit courses, and medical and allied health school grand rounds and clerkships. Consistent with OMB's previous terms of clearance, CDC does not expect the results to be generalizable to the larger populations of the professional organizations from which the samples were drawn. Instead, the survey results will provide necessary information to further develop and refine educational materials for medical and allied health students and practitioners and to evaluate their effectiveness. No gifts or compensation will be given to respondents who complete the survey. An average of one survey per year will be conducted.

There are no costs to respondents other than their time. The total estimated annualized burden hours are 375.

Estimated Annualized Burden
Type of respondent | No. of respondents | No. of responses per respondent | Average burden per response (in hours)
Selected Survey Instrument | 900 | 1 | 25/60

Dated: February 29, 2008.
Maryam I. Daneshvar,
Acting Reports Clearance Officer, Centers for Disease Control and Prevention.

[FR Doc. E8-4650 Filed 3-7-08; 8:45 am]

BILLING CODE 4163-18-P